OFFICE OF PERSONNEL MANAGEMENT

5 CFR Part 532

RIN 3206-AK06

Prevailing Rate Systems; Change in the Survey Month for the Bureau of Reclamation Mid-Pacific Region Survey

AGENCY: Office of Personnel Management.

ACTION: Proposed rule with request for comments.

SUMMARY: The Office of Personnel Management is issuing a proposed rule that would change the timing of annual wage surveys conducted by the Bureau of Reclamation (BOR), Department of the Interior, to determine prevailing rates of pay for supervisors of negotiated rate wage employees in the Mid-Pacific Region. BOR would conduct annual wage surveys in February in the Bureau's Mid-Pacific Region beginning in calendar year 2004. This change is proposed because February represents the best timing in relation to wage adjustments in the surveyed local private enterprise establishments and would improve the quality of data BOR collects during local wage surveys in the Mid-Pacific Region.

DATES: We must receive comments on or before December 1, 2003.

ADDRESSES: Send or deliver comments to Donald J. Winstead, Deputy Associated Director for Pay and Performance Policy, Strategic Human Resources Policy Division, Office of Personnel Management, Room 7H31, 1900 E Street NW., Washington, DC 20415-8200, or FAX: (202) 606-4264.

FOR FURTHER INFORMATION CONTACT: Madeline Gonzalez at (202) 606-2838; FAX at (202) 604-4264; or e-mail at mxgonzal@opm.gov.

SUPPLEMENTARY INFORMATION: The Department of the Interior (DOI) requested that the Office of Personnel Management (OPM) change the timing of annual wage surveys conducted by the Bureau of Reclamation (BOR) to determine prevailing rates of pay for supervisors of negotiated rate wage employees in the Bureau's Mid-Pacific Region. Currently, BOR conducts wage surveys in the region in October each year. Wage surveys would be conducted in the future in February.

DOI asked OPM to change the survey month for local wage surveys in the Mid-Pacific Region because February represents the best timing in relation to wage adjustments in the surveyed local private enterprise establishments and would improve the quality of data BOR collects during local wage surveys in this special wage area. Local private industry establishments surveyed by BOR in the Mid-Pacific Region typically make their wage adjustments effective in January of each year. Since DOI implements the results of the wage surveys on the month following the survey month, wage adjustments for supervisors of negotiated rate wage employees would become effective in March. Thus, they would more closely coincide with local prevailing rates. BOR would conduct wage surveys in February in the Mid-Pacific Region beginning in February 2004.

Regulatory Flexibility Act

I certify that this regulation would not have a significant economic impact on a substantial number of small entities because it would affect only Federal agencies and employees.

List of Subjects in 5 CFR Part 532

Administrative practice and procedure, Freedom of information, Government employees, Reporting and recordkeeping requirements, Wages.

Office of Personnel Management.
Kay Coles James,
Director.

Accordingly, the Office of Personnel Management proposes to amend 5 CFR part 532 as follows:

PART 532—PREVAILING RATE SYSTEMS

1. The authority citation for part 532 continues to read as follows:

Authority: 5 U.S.C. 5343, 5346; § 532.707 also issued under 5 U.S.C. 552.

§ 532.285 [Amended]

2. In § 532.285 paragraph (d), amend the special wage area listing for the mid-Pacific Region by removing from beginning month of survey, “October” and adding in its place “February.”

[FR Doc. 03-27382 Filed 10-30-03; 8:45 am]

BILLING CODE 6325-39-M